DEPARTMENT OF COMMERCE

National Oceanic and Atmospheric Administration

Identification of Items That Are “Nautical Charts” Under 1974 International Convention for the Safety of Life at Sea

AGENCY: Office of Coast Survey, National Ocean Service, National Oceanic and Atmospheric Administration, Department of Commerce.

ACTION: Statement of policy.

SUMMARY: The National Ocean Service (NOS), National Oceanic and Atmospheric Administration (NOAA) is legally responsible for providing nautical charts and related information. Requirements for the mandatory carriage and use of these nautical charts by certain vessels are established by the U.S. Coast Guard. In July, 2002, revisions to the Safety of Life at Sea (SOLAS) will enter into force. These revisions, among other things, define “nautical chart or nautical publication.” In order to provide clarification for regulatory and other purposes, NOS is providing this statement of products which meet the SOLAS definition.

DATES: Comments on this action should be submitted on or before 5 p.m. EST, July 10, 2002.

ADDRESSES: Comments in writing should be submitted to Director, Office of Coast Survey, National Ocean Service, NOAA (N/CS), 1315 East West Highway, Silver Spring, MD, 20910. Written comments may be faxed to (301) 713-4019. Comments by e-mail should be submitted to ECDIS@noaa.gov.

FOR FURTHER INFORMATION CONTACT: Captain Nicholas Perugini, (301) 713-2724 x101, Nic.Perugini@noaa.gov.

SUPPLEMENTARY INFORMATION:

Background

NOS is responsible, under 33 U.S.C. 883a et seq., to provide charts and related information for safe navigation in United States waters. Requirements for the mandatory carriage and use of these nautical charts by certain vessels are established by the U.S. Coast Guard and are published in Titles 33 and 46, Code of Federal Regulations. In revisions to SOLAS that will enter into force in July 2002, “nautical chart or nautical publication” are defined as “a special-purpose map or book, or a specially compiled database from which such a map or book is derived that is issued officially by or on the authority of a Government authorized Hydrographic Office or other relevant government institution and is designed to meet the requirements of marine navigation.” As these terms had not previously been defined, and as Coast Guard regulations require carriage of nautical charts, NOAA believed it appropriate to state the products that meet the SOLAS definition.

Policy Statement

The following items are nautical charts for purposes the 1974 International Convention for the Safety of Life at Sea, as amended. Each contains sufficient navigation and safety information to meet the definition of “nautical chart.”

1. A paper nautical chart published by or on the authority of the National Ocean Service, NOAA; or

2. An electronic navigational chart or a raster navigational chart published by or on the authority of the National Ocean Service, NOAA.

Electronic navigational charts and raster navigational charts meet the standards for use in electronic chart display and information systems (ECDIS) in accordance with International Maritime Organization Assembly Resolution A.817(19), as amended. Electronic navigational charts and raster navigational charts are defined by the following specifications of the International Hydrographic Organization:

1. International Hydrographic Organization Special Publication No. 52—“Specifications for Chart Content and Display Aspects of ECDIS,” including all Annexes and Appendices.

2. International Hydrographic Organization Special Publication No. 57—“IHO Transfer Standard for Digital Hydrographic Data,” including all Annexes and Appendices, and

3. International Hydrographic Organization Special Publication No. 61—“Product Specification for Raster Navigational Charts (RNC),” including all Annexes and Appendices.

Nautical charts identified herein are recognizable by the authorized use of the NOAA logo, principally on NOAA-produced products; or by a NOAA-authorized certificate of authenticity on or within the product, principally on products produced on the authority of NOAA.

Dated: May 22, 2002.
Jamison S. Hawkins,
Deputy Assistant Administrator, Ocean Services and Coastal Zone Management.

[FR Doc. 02-14015 Filed 6-7-02; 8:45 am]

BILLING CODE 3510-JE-M